ENVIRONMENTAL PROTECTION AGENCY

40 CFR Part 300

[FRL-8205-1]

National Oil and Hazardous Substance Pollution Contingency Plan; National Priorities List

AGENCY: Environmental Protection Agency (EPA).

ACTION: Technical Correction of final partial deletion of the Motor Wheel Disposal Superfund Site from the National Priorities List.

SUMMARY: On June 23, 2006 (70 FR 36019) EPA published a technical correction to a final notice of deletion from the National Priorities List for the Motor Wheel, Lansing, Michigan Site. The technical correction had an error in the amendatory language. This action is correcting this error.

DATES: Effective Date: This action is effective as of August 3, 2006.

ADDRESSES: Comprehensive information on the Site, as well as the comments that were received during the comment period are available at: Robert Paulson, Community Involvement Coordinator, U.S. EPA, P19J, 77 W. Jackson, Chicago, IL, (312) 886-0272 or 1-800-621-8431.

FOR FURTHER INFORMATION CONTACT: Gladys Beard, State NPL Deletion Process Manager, U.S. EPA (SR-6J), 77 W. Jackson, Chicago, IL 60604, (312) 886-7253 or 1-800-621-8431.

SUPPLEMENTARY INFORMATION: Information Repositories: Repositories have been established to provide detailed information concerning this decision at the following address: U.S. EPA Region V, 77 W. Jackson, Chicago, IL 60604, (312) 353-5821, Monday through Friday 8 a.m. to 4 p.m.; The Lansing Public Library, Reference Section, 401 Capital Ave., Lansing, MI 48933. On June 22, 2000 (65 FR 38806), EPA published a “Notice of intent to delete 3.45 acres of land from the Motor Wheel Disposal Site from the National Priorities List; request for comments,” and on June 22, 2000 (65 FR 38774), a “Direct final notice of deletion for 3.45 acres of land for the Motor Wheel Superfund Site from the National Priorities List (NPL).” The EPA is publishing this Technical Correction to the June 22, 2000, final notice of deletion due to errors that were published in that notice, a subsequent technical correction dated June 23, 2006, and in the National Priorities List at 40 CFR part 300, Appendix B. After review of the final notice of deletion and the National Priorities List, EPA is publishing this Technical Correction today to change the word “revising” in the June 23, 2006 Direct final notice of deletion to the word “adding” and to amend 40 CFR part 300, Appendix B by adding the Motor Wheel, Lansing, Michigan, and inserting a “P” in the Notes(a) column for the Motor Wheel Site, Lansing, Michigan. EPA will place a copy of the final partial deletion package in the site repositories.

List of Subjects in 40 CFR Part 300

Environmental protection, Air pollution control, Chemicals, Hazardous substances, Hazardous waste, Intergovernmental relations, Penalties, Reporting and recordkeeping requirements, Superfund, Water pollution control, Water supply.

Authority: 33 U.S.C. 1321(c)(2); 42 U.S.C. 9601-9657; E.O. 12777, 56 FR 54757, 3 CFR, 1991 Comp., p. 351; E.O. 12580, 52 FR 2923; 3 CFR, 1987 Comp., p. 193.

Dated: July 24, 2006.
Norman Neidergang,
Acting Regional Administrator, EPA Region V.

For the reasons stated in the preamble, 40 CFR part 300 is amended as follows:

2. Table 1 of Appendix B to part 300 is amended under Michigan “MI” by adding the entry for “Motor Wheel” to read as follows:

Appendix B to Part 300—National Priorities List

Table 1.—General Superfund Section
State | Site name | City/ County | Notes ᵃ
* * * * * * *
MI | Motor Wheel | Lansing | P
* * * * * * *
ᵃ * * *
P = Sites with partial deletions.

* * * * *

[FR Doc. E6-12446 Filed 8-2-06; 8:45 am]

BILLING CODE 6560-50-P